DEPARTMENT OF ENERGY

Federal Energy Regulatory Commission

[Docket No. RP96-383-009]

Dominion Transmission, Inc.; Notice of Negotiated Rate Compliance Filing

August 16, 2000.

Take notice that on August 9, 2000, Dominion Transmission, Inc. (DTI) (formerly CNG Transmission Corporation) tendered for filing to the Federal Energy Regulatory Commission (Commission) the following tariff sheets in compliance with the Commission's order issued July 31, 2000, in this proceeding:

Second Revised Sheet No. 111

First Revised Sheet No. 111A

DTI requests an effective date of August 10, 2000, for these tariff sheets.

DTI states that copies of the filing have been served on all parties on the official service list, DTI's customers, and interested state commissions. DTI further states that copies of the filing are being made available for public inspection during regular business hours in DTI's offices in Clarksburg, West Virginia.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21303 Filed 8-21-00; 8:45 am]

BILLING CODE 6717-01-M